ENVIRONMENTAL PROTECTION AGENCY

[ER-FRL-8998-7]

Environmental Impacts Statements; Notice of Availability

Responsible Agency: Office of Federal Activities, General Information (202) 564-1399 or http://www.epa.gov/compliance/nepa/.

Weekly receipt of Environmental Impact Statements.

Filed 08/15/2011 through 08/19/2011.

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110272, Draft EIS, FWS, AK, Arctic National Wildlife Refuge Project, Draft Revised Comprehensive Conservation Plan, Wilderness Review, Wild and Scenic River Review, Implementation, Fairbanks, AL, Comment Period Ends: 11/23/2011, Contact: Sharon Seim 907-456-0501.

EIS No. 20110273, Final EIS, FERC, CA, Kilarc-Cow Creek Hydroeletric Project, (FERC Project No. 606) Proposes to Surrender the License for Operation Project, Old Crow Creek and South Cow Creek, Shasta County, CA, Wait Period Ends: 09/26/2011, Contact: Leonard Tao 1-866-208-3372.

EIS No. 20110274, Draft EIS, USFS, CA, Barren Ridge Renewable Transmission Project, Construction and Operation, Application to the USFS for a Special Use Authorization and to BLM for Right-of-Way Grant, Kern and Los Angeles Counties, CA, Comment Period Ends: 10/25/2011, Contact: Robert Hawkins 707-562-8699.

EIS No. 20110275, Second Draft Supplement, FWS, CA, Southern Sea Otters (Enhydra lutris nereis) Translocation Program, Updated Information to the DSEIS 2005, San Nicolas Island, Southern California Bight, CA, Comment Period Ends: 10/24/2011, Contact: Lilian Carswell 805-644-1766.

EIS No. 20110276, Draft EIS, BLM, AZ, Lower Sonoran and Sonoran Desert National Monument, Resource Management Plan, To Provide Guidance for Managing the Use of Public Lands and Provide a Framework for Future Land Management Actions, Maricopa, Pinal, Pima, Gila and Yuma Counties, AZ, Comment Period Ends: 11/23/2011, Contact: Penny Foreman 653-580-5528.

EIS No. 20110277, Draft Supplement, USFS, CO, San Juan Plan Revision, Updated Information, San Juan Public Lands, Draft Land Management Plan (DLMP), Implementation, San Juan National Forest, Archuleta, Conejos, Dolores, Hinsdale, LaPlata, Mineral, Montezuma, Montrose, Rio Grande, San Juan and San Miguel Counties, CO, Comment Period Ends: 10/11/2011, Contact: Shannon Manfredi 970-385-1229.

EIS No. 20110278, Final EIS, NPS, AK, Nabesna Off-Road Vehicle Management Plan, Implementation, Wrangell-St. Elias National Park and Preserve, AK, Wait Period Ends: 09/26/2011, Contact: Bruce Rogers 907-822-7276.

EIS No. 20110279, Final Supplement, MMS, AK, Chukchi Sea Planning Area, Oil and Gas Lease Sale 193, Revised Information, Analyzing the Environmental Impact of Natural Gas Development and Evaluate Incomplete, Missing, and Unavailable Information, Chukchi Sea, Alaska Outer Continental Shelf, AK, Wait Period Ends: 09/26/2011, Contact: Tim Holder 703-787-1744.

EIS No. 20110280, Final EIS, NOAA, NC, Gray's Reef National Marine Sanctuary (GRNMS) Research Areas Designation, Establish a Research Area, Implementation, NC, Wait Period Ends: 09/26/2011, Contact: George Sedberry 912-598-2345.

Amended Notices

EIS No. 20110174, Draft EIS, USFS, 00, George Washington National Forest Land and Resource Management Project, Implementation, Alleghany, Amherst, Augusta, Bath, Botetourt, Frederick, Highland, Nelson, Page, Rockbridge, Rockingham, Shenandoah, and Warren Counties, VA and Hampshire, Hardy, Monroe, and Pendleton Counties, WV, Comment Period Ends: 10/17/2011, Contact: Karen Overcash 540-265-5175. Revision to FR Notice Published 06/03/2011: Extending Comment Period from 09/01/2011 to 10/17/2011.

Dated: August 23, 2011.
Cliff Rader,
Acting Director, NEPA Compliance Division, Office of Federal Activities.

[FR Doc. 2011-21937 Filed 8-25-11; 8:45 am]

BILLING CODE 6560-50-P